DEPARTMENT OF ENERGY

Federal Energy Regulatory Commission

[Docket No. RP00-403-003]

Northern Border Pipeline Company; Notice of Compliance Filing

September 5, 2002.

Take notice that on August 30, 2002, Northern Border Pipeline Company (Northern Border) tendered for filing to become part of Northern Border Pipeline Company's FERC Gas Tariff, First Revised Volume No. 1, First Revised Sheet No. 286B.01, Original Sheet No. 286B.02, and Fifth Revised Sheet No. 286C, to become effective October 1, 2002.

Northern Border states that the purpose of this filing is to revise Northern Border's tariff in compliance with the Commission Order dated May 16, 2002 at Docket No. RP00-403, et al. (99 FERC ¶ 61,183), to incorporate the administrative timeline for non-biddable releases, NAESB Standard 5.3.2, Version 1.5. This standard was inadvertently omitted from Northern Border's compliance tariff filing at Docket No. RP00-403-002, that was made on July 17, 2002. Northern Border also proposes a housekeeping revision to update NAESB Standard 5.3.3 in its tariff.

Northern Border states that copies of this filing have been sent to all of Northern Border's contracted shippers and interested state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's Web site under the “e-Filing” link.

Linwood A. Watson, Jr.,
Deputy Secretary.

[FR Doc. 02-23183 Filed 9-17-02; 8:45 am]

BILLING CODE 6717-01-P